DEPARTMENT OF ENERGY

Federal Energy Regulatory Commission

Combined Notice of Filings

July 28, 2009.

Take notice that the Commission has received the following Natural Gas Pipeline Rate and Refund Report filings:

Docket Numbers: RP09-427-001.

Applicants: Southern Natural Gas Company.

Description: Southern Natural Gas Company submits Fourth Revised Sheet 1 et al, to be effective 9/1/09.

Filed Date: 07/24/2009.

Accession Number: 20090727-0018.

Comment Date: 5 p.m. Eastern Time on Wednesday, August 05, 2009.

Docket Numbers: RP09-505-000.

Applicants: Texas Gas Transmission, LLC.

Description: Motion of Texas Gas Transmission, LLC for an Extension of the Effective Date of Tariff Sheets or, in the Alternative, Waiver of Certain Tariff Sheet Provisions.

Filed Date: 07/24/2009.

Accession Number: 20090724-5060.

Comment Date: 5 p.m. Eastern Time on Wednesday, August 05, 2009.

Docket Numbers: RP09-508-002.

Applicants: Texas Eastern Transmission LP.

Description: Texas Eastern Transmission, LP submits Sub Second Revised Sheet 612 to FERC Gas Tariff, Seventh Revised Volume 1, to be effective 8/13/09.

Filed Date: 07/24/2009.

Accession Number: 20090728-0005.

Comment Date: 5 p.m. Eastern Time on Wednesday, August 05, 2009.

Docket Numbers: RP09-704-001.

Applicants: Destin Pipeline Company, L.L.C.

Description: Destin Pipeline Company, LLC submits Sub Eighth Revised Sheet 136 to FERC Gas Tariff, Original Volume 1, to be effective 8/1/09.

Filed Date: 07/24/2009.

Accession Number: 20090727-0019.

Comment Date: 5 p.m. Eastern Time on Wednesday, August 05, 2009.

Docket Numbers: RP09-748-001.

Applicants: Quest Pipelines (KPC).

Description: Quest Pipelines (KPC) submits Substitute First Revised Sheet 190 to FERC Gas Tariff, Second Revised Volume 1, to be effective 8/1/09.

Filed Date: 07/24/2009.

Accession Number: 20090724-0098.

Comment Date: 5 p.m. Eastern Time on Wednesday, August 05, 2009.

Docket Numbers: RP09-409-002.

Applicants: Cimarron River Pipeline, LLC.

Description: Refund Report of Cimarron River Pipeline, LLC.

Filed Date: 07/27/2009.

Accession Number: 20090727-5098.

Comment Date: 5 p.m. Eastern Time on Monday, August 10, 2009.

Docket Numbers: RP09-681-001.

Applicants: Transwestern Pipeline Company, LLC.

Description: Transwestern Pipeline Company, LLC submits Substitute Second Revised Sheet No 96 to its FERC Gas Tariff, Third Revised Volume No 1.

Filed Date: 07/27/2009.

Accession Number: 20090727-0040.

Comment Date: 5 p.m. Eastern Time on Monday, August 10, 2009.

Any person desiring to protest this filing must file in accordance with Rule 211 of the Commission's Rules of Practice and Procedure (18 CFR 385.211). Protests to this filing will be considered by the Commission in determining the appropriate action to be taken, but will not serve to make protestants parties to the proceeding. Such protests must be filed in accordance with the provisions of section 154.210 of the Commission's regulations (18 CFR 154.210). Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to any subscribed docket(s). For assistance with any FERC Online service, please e-mail FERCOnlineSupport@ferc.gov, or call (866) 208-3676 (toll free). For TTY, call (202) 502-8659.

Nathaniel J. Davis,
Deputy Secretary.

[FR Doc. E9-18499 Filed 8-3-09; 8:45 am]

BILLING CODE 6717-01-P